DEPARTMENT OF DEFENSE

Department of the Army

Notice of Availability of Advanced Battery Technology Related Patents for Exclusive, Partially Exclusive, or Non-Exclusive Licenses; Patent Licensing Meeting

AGENCY: Department of the Army, DoD.

ACTION: Notice of availability.

SUMMARY: The Department of the Army announces the general availability of exclusive, partially exclusive or non-exclusive licenses relative to the following listing of intellectual property. A patent licensing meeting will be held February 16, 2011 at the SAIC Enterprise Bldg Conference Center, 8301 Greensboro Drive, McLean, VA 22102; Wednesday. Please pre-register for this event at https://www.seeuthere.com/AdvancedBatteryTechnicalBriefing2011 NLT 4 February 2011. Seating will be limited so early registration is encouraged.

1. ARL 01-37—Choosing Electrolytes for Lithium/Air Batteries (US 7,585,579).

2. ARL 02-06—Solvent Systems Comprising a Mixture of Lactams and Esters for Non-Aqueous Electrolytes and Non-Aqueous Electrolyte Cells Comprising the Same (US 7,442,471 B1).

3. ARL 02-27—Additive for Enhancing the Performance of Electrochemical Cells (US 7,172,834 B1).

4. ARL 02-27 D1—Non-aqueous solvent electrolyte battery with additive alkali metal salt of a mixed anhydride combination of oxalic acid and boric acid (US 7,524,579 B1).

5. ARL 04-29—Safer, Less Expensive Lithium Ion Batteries (US 7,629,080).

6. ARL 05-18—High Capacity Metal/Air Battery.

Filed with USPTO on 4/1/2009 (S/N #12/416,309).

7. ARL 08-15—Improvement through Protection: Enabling More Powerful Lithium Batteries.

Provisional filed with USPTO on 5/13/2010 (S/N #61/334,265); non-provisional due by 5/13/2011.

8. ARL 08-37—Higher Voltage, Safer Lithium-Carbon Fluoride Battery.

Filed with USPTO on 9/8/2010 (S/N #12/877,153).

9. ARL 08-39—Better Performing Lithium/Carbon Fluoride Battery.

Filed with USPTO on 11/24/10; (S/N 61/416,923).

10. ARL 09-18—Increasing Performance by Reducing Resistance in Lithium Ion Batteries.

Filed with USPTO on 2/3/2010 (S/N #12/699,182).

11. ARL 09-33—Pure LiBOB Salt & Purification Process.

Filed with USPTO on 10/27/10 (S/N 61/407,153).

12. ARL 09-41—Longer Lasting Lithium/Oxygen Battery.

Provisional filed with USPTO on 1/11/11, (S/N 61/431,602).

13. ARL 10-14—Ultra-fast Bi-directional Solid State Circuit Breaker (battery related).

PATENT STATUS—To be filed prior to meeting.

14. ARL 10-28—Electrolyte for Next Generation 5V Li-ion Batteries.

Provisional filed with USPTO on 7/6/2010 (S/N # 61/361,625).

FOR FURTHER INFORMATION CONTACT: Michael D. Rausa, U.S. Army Research Laboratory, Office of Research and Technology Applications, ATTN: RDRL-DB/Bldg. 434, Aberdeen Proving Ground, MD 21005-5425, Telephone: (410) 278-5028.

SUPPLEMENTARY INFORMATION: None.

Brenda S. Bowen,
Army Federal Register Liaison Officer.

[FR Doc. 2011-960 Filed 1-18-11; 8:45 am]

BILLING CODE 3710-08-P